DEPARTMENT OF THE INTERIOR

Bureau of Land Management

[AZ-070-033-1232-EA, SRP-070-03-01 and SRP-070-03-02]

Notice of Temporary Closure of Selected Public Lands in La Paz County, Arizona, During the Operation of the 2003 Parker 250 and Parker 425 Desert Races

AGENCY: Bureau of Land Management.

ACTION: Temporary Closure of Selected Public Lands in La Paz County, Arizona, during the operation of the 2003 Parker 250 and Parker 425 Desert Races.

SUMMARY: The Bureau of Land Management (BLM) Lake Havasu Field Office announces the temporary closure of selected public lands under its administration in La Paz County, Arizona. This action is being taken to help ensure public safety and prevent unnecessary environmental degradation during the officially permitted running of the 2003 Parker 250 and Parker 425 Desert Races. This closure is effective during the Parker 250 Race from 6 p.m. MST on January 3, 2003 and ending at 8 p.m. MST on January 5, 2003; in addition, the closure is effective for the Parker 425 Race, beginning at 10 a.m. (MST) February 6, 2003 and ending at midnight (MST) on February 8, 2003.

All public lands, including county maintained roads and highways located on public lands, that are located within two miles of the designated racecourse are subject to this temporary closure. Official maps maintained by the BLM's Lake Havasu Field Office define the designated racecourse.

The following acts are prohibited during the temporary closure:

1. Driving or being present on designated racecourse. This restriction does not apply to race participants, race officials and emergency vehicles.

2. Vehicle parking or stopping in areas affected by the closure, except where such is specifically allowed (designated spectator areas).

3. Camping in any area, except in the designated spectator areas.

4. Discharge of firearms.

5. Possession or use of any fireworks.

6. Cutting or collecting firewood of any kind, including dead and down wood or other vegetative material.

7. Operating any vehicle (except for registered race vehicles), including off-highway vehicles, which is not registered and equipped for street and highway operation.

8. Operating any vehicle in the area of the closure at a speed of more than 35 mph. This does not apply to registered race vehicles during the race, while on the designated racecourse.

9. Parking any vehicle in violation of posted restrictions.

10. Parking any vehicle in a manner that obstructs or impedes normal traffic movement.

11. Driving any vehicle around or past any “road closed” sign or traffic control barrier.

12. Failing to obey any person authorized to direct traffic, including law enforcement officers and designated race officials.

13. Failing to observe Spectator Area quiet hours of 10 PM to 6 AM.

14. Failing to keep campsite or race viewing site free of trash and litter.

15. Allowing any pet or other animal to be unrestrained by a leash of not more than 6 feet in length.

The above restrictions do not apply to emergency vehicles and vehicles owned by the United States, the State of Arizona, or La Paz County. Authority for closure of public lands is found in 43 CFR 8340, subpart 8341; 43 CFR 8360, subpart 8364.1; and 43 CFR 2930. Persons who violate this closure order are subject to arrest and, upon conviction, may be fined not more than $100,000 and/or imprisoned for not more than 12 months (18 U.S.C. 3571(b)(5).

FOR FURTHER INFORMATION CONTACT: Bryan Pittman, District Law Enforcement Ranger, BLM Lake Havasu Field Office, 2610 Sweetwater Avenue, Lake Havasu City, Arizona 86406, (928) 505-1200.

SUPPLEMENTARY INFORMATION: The racecourse is as described in general terms as follows: Beginning at the eastern boundary of the Colorado River Indian Tribe Reservation in Osborne Wash, it runs east along Shea Road, then east along the Parker-Swansea Road to the Central Arizona Project Canal, then north along the CAP Canal, to and along the maintained county road that runs from the east end of Shea Road to Mineral Wash, then southeast along the maintained county road that runs to Midway, then east along the Transmission Pass Road through State Trust lands located in Butler Valley. The route re-enters public lands for a short distance west of Alamo Lake Road, then re-enters State Trust Lands in Butler Valley, then onto public lands again on the Butler Valley Road northwest of Graham Well and proceeds west to the “Bouse Y”, which is located north of Bouse, Arizona. The route then proceeds north along the Bouse-Midway Road to Midway. From Midway, it proceeds west along the north boundary of the East Cactus Plain Wilderness Area to the Parker-Swansea Road. It then proceeds west on the Parker-Swansea Road to the CAP Canal, along the north boundary of the Cactus Plain Wilderness Study Area to Osborne, Wash. From there it proceeds west along the Osborne, Wash to the CRIT Reservation boundary.

Dated: October 25, 2002.
Donald Ellsworth,
Field Manager, Lake Havasu Field Office.

[FR Doc. 03-590 Filed 1-10-03; 8:45 am]

BILLING CODE 4310-32-P